DEPARTMENT OF COMMERCE

Foreign-Trade Zones Board

[S-100-2026]

Foreign-Trade Zone 247; Application for Subzone Expansion; Wabtec Transportation Systems, LLC; Erie, Pennsylvania

An application has been submitted to the Foreign-Trade Zones (FTZ) Board by the Erie-Western Pennsylvania Port Authority, grantee of FTZ 247, requesting an expansion of Subzone 247A and that Subzone 247B be merged into Subzone 247A on behalf of Wabtec Transportation Systems, LLC, in Erie and Grove City, Pennsylvania. The application was submitted pursuant to the provisions of the Foreign-Trade Zones Act, as amended (19 U.S.C. 81a-81u), and the regulations of the FTZ Board (15 CFR part 400). It was formally docketed on February 23, 2026.

As proposed, Subzone 247A would consist of the following: Site 1 (372 acres) 2901 East Lake Road, Erie (additional 22 acres); Site 2 (49 acres) 1503 West Main Street Ext, Grove City (currently Subzone 247B, Site 1); Site 3 (26 acres) 660 Barkeyville Road, Grove City; Site 4 (1.72 acres) 3106 McCain Avenue, Erie; Site 5 (0.77 acres) 1314 West 18th Street, Erie; Site 6 (2.45 acres) 156 Hardinger Boulevard, Grove City; Site 7 (6.5 acres) 1411 Wayne Street, Erie; and, Site 8 (1.31 acres) 1710 Greengarden Boulevard, Erie. The expanded subzone would be subject to the existing activation limit of FTZ 247.

In accordance with the FTZ Board's regulations, Juanita Chen of the FTZ Staff is designated examiner to review the application and make recommendations to the Executive Secretary.

Public comment is invited from interested parties. Submissions shall be addressed to the FTZ Board's Executive Secretary and sent to: ftz@trade.gov. The closing period for their receipt is April 7, 2026. Rebuttal comments in response to material submitted during the foregoing period may be submitted through April 22, 2026.

A copy of the application will be available for public inspection in the “Online FTZ Information Section” section of the FTZ Board's website, which is accessible via www.trade.gov/ftz.

For further information, contact Juanita Chen at juanita.chen@trade.gov.

Dated: February 23, 2026.
Elizabeth Whiteman,
Executive Secretary.

[FR Doc. 2026-03885 Filed 2-25-26; 8:45 am]

BILLING CODE 3510-DS-P